DEPARTMENT OF THE INTERIOR

Bureau of Land Management

[LLWY920000-L14300000-FR0000; WYW-165149]

Notice of Realty Action: Non-Competitive (Direct) Sale of Public Land in Washakie County, Wyoming

AGENCY: Bureau of Land Management, Interior.

ACTION: Notice.

SUMMARY: The Bureau of Land Management (BLM) proposes to sell a 22.98-acre parcel of public land in Washakie County, Wyoming, by non-competitive (direct) sale to the town of Ten Sleep under the provisions of the Federal Land Policy and Management Act of 1976 (FLPMA), at no less than the appraised fair market value.

DATES: Interested parties may submit comments regarding the proposed sale of the lands until June 11, 2012.

ADDRESSES: Send written comments concerning this notice to Field Manager, BLM Worland Field Office, 101 South 23rd Street, Worland, Wyoming 82401, or by email to worland_wymail@blm.gov.

FOR FURTHER INFORMATION CONTACT: Karla Bird, Field Manager, BLM, Worland Field Office, at 307-347-5100. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following described public land in Washakie County, Wyoming, is proposed for direct sale under the authority of Section 203 of the FLPMA, (43 U.S.C. 1713):

Sixth Principal Meridian

T. 47 N., R. 88 W.,

sec. 21, lot 10.

The area described contains 22.98 acres, in Washakie County.

The 1988 BLM Washakie Resource Management Plan identified this parcel of public land as suitable for disposal. Conveyance of the identified public land will be subject to valid existing rights and encumbrances of record, including but not limited to, rights-of-way for roads and public utilities. All minerals will be reserved to the United States. On April 26, 2012, the above-described land will be segregated from all forms of appropriation under the public land laws, including the mining laws, except the sale provisions of the FLPMA. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or April 28, 2014, whichever comes first unless extended by the BLM Wyoming State Director in accordance with 43 CFR 2711.1-2(d), prior to the termination date.

The public land will not be sold until at least June 25, 2012, at the appraised market value of $55,000. The patent, if issued, will be subject to the following terms, conditions and reservations:

1. A reservation if a right-of-way thereon for ditches or canals constructed by the United States under the authority of the Act of August 30, 1890 (43 U.S.C. 945);

2. All minerals, together with the right to prospect for, mine, and remove such deposits from the same under applicable law and such regulations as the Secretary of the Interior may prescribe shall be reserved to the United States.

3. A reservation of a right-of-way for a Federal-aid Highway (Ten Sleep-Big Trails Road) as to lot 10, sec. 21, T. 47 N., R. 88 W., 6th P.M., Wyoming, under the Act of August 27, 1958, as amended, 23 U. S. C. 317, of record in the BLM, Worland Field Office, under Serial No. WYW-79595.

4. An appropriate indemnification clause protecting the United States from claims arising out of the lessee/patentee's use, occupancy, or operations on the leased/patented lands.

5. The patent will be subject to all valid existing rights documented on the official public land records at the time of patent issuance.

This land is being offered by direct sale to the Town of Ten Sleep pursuant to 43 CFR 2711.3-3. A competitive sale is not appropriate and the public interest would be best served by a direct sale because the tract has been identified for transfer to a local government for a project of public importance. Adjoining public land uses will not be impacted by the sale.

Interested parties may submit written comments to the BLM Worland Field Manager at the address above. Comments, including names and street addresses of respondents, will be available for public review at the BLM Worland Field Office during regular business hours. Before including your address, phone number, email address, or other personal identifying information in your comment, you should be aware that your entire comment—including your personal identifying information—may be made publicly available at any time. While you may ask us in your comment to withhold your personal identifying information from public review, we cannot guarantee that we will be able to do so. Any adverse comments will be reviewed by the BLM Wyoming State Director who may sustain, vacate, or modify this realty action and issue a final determination. In the absence of any objections, this realty action will become the final determination of the Department of the Interior.

Authority: 43 CFR 2711.1-2.

Donald A. Simpson,
Wyoming State Director.

[FR Doc. 2012-10060 Filed 4-25-12; 8:45 am]

BILLING CODE 4310-22-P